DEPARTMENT OF TRANSPORTATION

Coast Guard

33 CFR Part 117

[CGD08-03-004]

RIN 2115-AE47

Drawbridge Operating Regulations; Inner Harbor Navigation Canal, New Orleans, LA

AGENCY: Coast Guard, DOT.

ACTION: Notice of temporary deviation from regulations.

SUMMARY: The Commander, Eighth Coast Guard District has issued a temporary deviation from the regulation governing the operation of the Norfolk Southern Railroad bascule bridge across the Inner Harbor Navigation Canal, mile 4.5, in New Orleans, Orleans Parish, Louisiana. This deviation allows the bridge to remain closed to navigation for twenty-four hours from March 19 through March 20, 2003. The deviation is necessary to conduct maintenance to the drawbridge.

DATES: This deviation is effective from 7 a.m. on Wednesday, March 19, 2003 until 7 a.m. on Thursday, March 20, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is 504-589-2965. The Bridge Administration Branch, Eighth District, maintains the public docket for this temporary deviation.

FOR FURTHER INFORMATION CONTACT: David Frank, Bridge Administration Branch, telephone (504) 589-2965.

SUPPLEMENTARY INFORMATION: The Board of Commissioners of the Port of New Orleans has requested a temporary deviation in order to replace the bronze babbitt bearing on the riverside main motor gear drive of the bridge. This repair is necessary for the continued operation of the bridge. This deviation allows the draw of the Norfolk Southern Railroad bascule bridge to remain closed to navigation from 7 a.m. on Wednesday, March 19 through 7 a.m. on Thursday, March 20, 2003.

The bascule bridge has a vertical clearance of one foot above mean high water in the closed-to-navigation position and unlimited clearance in the open-to-navigation position. The bridge is maintained in the open-to-navigation position and is closed to allow for trains to cross the bridge. In accordance with 33 CFR 117.5, the draw is required to open on signal for the passage of vessels. The bridge will not be able to open for emergencies during the closure period. Navigation on the waterway consists mainly of recreational and fishing vessels and some tugs with tows. Alternate routes are available to any vessel by transiting through the Chef Menteur Pass or the Rigolets Pass.

In accordance with 33 CFR 117.35(c), this work will be performed with all due speed in order to return the bridge to normal operation as soon as possible. This deviation from the operating regulations is authorized under 33 CFR 117.35.

Dated: February 19, 2003.
Marcus Redford,
Bridge Administrator.

[FR Doc. 03-4758 Filed 2-27-03; 8:45 am]

BILLING CODE 4910-15-P